ENVIRONMENTAL PROTECTION AGENCY

[ER-FRL-6653-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-BLM-J65413-MT Rating EC2, Dillon Resource Management Plan, Provide Direction for Managing Public Lands within the Dillon Field Office, Implementation, Beaverhead and Madison Counties, MT.

Summary: EPA expressed environmental concerns regarding potential impacts to water quality, habitat and on ecosystem processes. EPA believes the final EIS should include additional information to explain how the RMP and actions taken will provide a complete and consistent guide to managing the area, and assessing and mitigating significant impacts of the action.

Final EISs

ERP No. F-AFS-J65016-UT, Bear Hodges II Timber Sale Management Plan, Selective Timber Harvest of Spruce Stands With or Without Road Construction, Implementation, Wasatch National Forest (WCNF), Logan Ranger District, Cache and Rich Counties, UT.

Summary: The final EIS adequately responded to EPA's previous concerns. Therefore, EPA has no objection to the proposed action.

ERP No. F-AFS-J65406-MT, West Troy Project, Proposes Timber Harvesting, Natural Fuels Reduction Treatments, Pre-Commercial Thinning, and Watershed Rehabilitation (Decommissioning) Work, Kootenai National Forest, Three River Ranger District, Lincoln County, MT.

Summary: While the final EIS addressed many of EPA's previous concerns, EPA continues to express concerns that additional necessary watershed restoration work be completed in light of the large backlog and uncertain funding.

ERP No. F-AFS-L65447-00, East Bridge Cattle Allotment Management Plan Revision (AMP), Authorization of Continued Grazing, Caribou-Targhee National Forest, Soda Springs Ranger District, Caribou and Bonneville Counties, ID and Lincoln County, WY.

Summary: No formal comment letter was sent to the preparing agency.

ERP No. F-NPS-J65384-MT, Glacier National Park Commercial Services Plan, General Management Plan, Implementation, Glacier National Park, a Portion of Waterton-Glacier International Peace Park, Flathead and Glacier Counties, MT.

Summary: EPA has no objections to the proposed action.

Dated: July 20, 2004.
Ken Mittelholtz,
Environmental Protection Specialist, Office of Federal Activities.

[FR Doc. 04-16827 Filed 7-22-04; 8:45 am]

BILLING CODE 6560-50-P